OCCUPATIONAL SAFETY AND HEALTH REVIEW COMMISSION

Senior Executive Service Performance Review Board Membership

AGENCY: Occupational Safety and Health Review Commission.

ACTION: Annual notice.

SUMMARY: Notice is given of the appointment of members to the Performance Review Board (PRB) of the Occupational Safety and Health Review Commission.

DATES: Membership is effective on March 28, 2025.

FOR FURTHER INFORMATION CONTACT: Michelle Huffman, Human Resources Specialist, U.S. Occupational Safety and Health Review Commission, 1120 20th Street NW—Ninth Floor, Washington, DC 20036-3457, (202) 606-5393.

SUPPLEMENTARY INFORMATION: The Review Commission, as required by 5 U.S.C. 4314(c)(1) through (5), has established a Senior Executive Service PRB. The PRB reviews and evaluates the initial appraisal of a senior executive's performance by the supervisor and makes recommendations to the Chairman of the Review Commission regarding performance ratings, performance awards, and pay-for-performance adjustments. Members of the PRB serve for a period of 24 months. In the case of an appraisal of a career appointee, more than half of the members shall consist of career appointees, pursuant to 5 U.S.C. 4314(c)(5). The names and titles of the PRB members are as follows:

• Fred B. Jacob, Solicitor, National Labor Relations Board;

• Susan Harthill, Associate Director of Appellate Review Programs, Office of Federal Operations, Equal Employment Opportunity Commission;

• Reggie James, Associate Director, Court Services and Offender Supervision Agency.

The name and title of the alternate PRB member is as follows:

• Jebby Rasputnis, Deputy Director of Programs, U.S. Railroad Retirement Board.

Cynthia L. Attwood,
Chairman.

[FR Doc. 2025-05412 Filed 3-27-25; 8:45 am]

BILLING CODE 7600-01-P